DEPARTMENT OF JUSTICE

Antitrust Division

Notice Pursuant to the National Cooperative Research and Production Act of 1993—Rapid Response Partnership Vehicle

Notice is hereby given that, on April 8, 2025, pursuant to section 6(a) of the National Cooperative Research and Production Act of 1993, 15 U.S.C. 4301 et seq. (“the Act”), Rapid Response Partnership Vehicle (“RRPV”) has filed written notifications simultaneously with the Attorney General and the Federal Trade Commission disclosing changes in its membership. The notifications were filed for the purpose of extending the Act's provisions limiting the recovery of antitrust plaintiffs to actual damages under specified circumstances.

Specifically, Fisher BioServices, Inc., Rockville, MD; Landmark Vaccines, Ltd., Loughborough, UNITED KINGDOM; Rx Bandz, Locust Valley, NY; Zeteo Tech, Inc., Sykesville, MD; BioNet-Asia Co., Ltd, Bangkok, KINGDOM OF THAILAND; EmitBio, Inc., Morrisville, NC; Matisse Pharmaceuticals, B.V., Geleen, KINGDOM OF THE NETHERLANDS; National Institute for Pharmaceutical Technology and Education, Inc., Minneapolis, MN; ProtonDx, Ltd., London, UNITED KINGDOM; BioVaxys Technology Corp., Etobicoke, CANADA; Enplas, Santa Clara, CA; RHEAVITA BV, Ghent, KINGDOM OF BELGIUM; Celltheon, Union City, CA; Chromatan, Inc., Lower Gwynedd, PA; Cyrus Biotechnology, Seattle, WA; Eradivir, Inc., West Lafayette, IN; InDevR, Inc., Boulder, CO; Kudo Biotechnology, Inc., Needham, MA; Panoplia Laboratories, Inc., Cambridge, MA; The Regents of the University of California on behalf of its Los Angeles campus, Los Angeles, CA; Meridian Medical Technologies LLC, St. Louis, MO; Sarfez Pharmaceuticals, Inc., Vienna, VA; Tiba Biotech LLC, Cambridge, MA; Ecolab, Inc., Philadelphia, PA; Unicorn Biotechnologies, Inc., Newark, NJ; Zipcode Bio, Weston, MA; Acclinate, Inc., Birmingham, AL; Klim-Loc Medical, Inc., Carbondale, CO; Primary Diagnostics, Inc. dba Primary.Health, San Francisco, CA; Epitogenesis, Inc., Virginia Beach, VA; Microbio, Ltd., Brisbane, COMMONWEALTH OF AUSTRALIA; Aldevron LLC, Fargo, ND; BC3 Technologies, Inc., Baltimore, MD; Genvax, Ames, IA; Maxim Biomedical, Inc., Rockville, MD; Piezo Therapeutics, Inc., Atlanta, GA; Virtu, Inc., Leesburg, VA; Digital Infuzion LLC, Rockville, MD; Neolixir, Ltd., Perth, AUSTRALIA; XCMR, Inc., Narberth, PA; GenevationUS LLP, Sacramento, CA; Respana Therapeutics, Inc., Philadelphia, PA; University of Louisiana at Lafayette, Lafayette, LA; EriVan, Alachua, FL; President and Fellows of Harvard College, Cambridge, MA; MedinCell, Inc., Jacou, FRENCH REPUBLIC; Ambient Biosciences, Ann Arbor, MI; Antirna, Inc., Burlington, MA; Avid Bioservices, Inc., Tustin, CA; CMC Pharmaceuticals, Inc., Solon, OH; FluGen, Inc., Madison, WI; Foundry, Boston, MA; Nutrivert, Inc., Atlanta, GA; The United States Pharmacopeial Convention, Inc., Rockville, MD; Particella, Inc., San Francisco, CA; Ampulis, Inc., Berwyn, PA; Rozum Consulting, Newtown, PA; Halomine, Inc. dba AvantGuard, Ithaca, NY; Luminary Labs LLC, New York, NY; Pluri Biotech, Ltd., Haifa, STATE OF ISRAEL; Public Health Vaccines LLC, Cambridge, MA; B&S Research, Inc., Embarress, MN; and General Therapeutics, Inc., Gaithersburg, MD have been added as parties to this venture.

Also, TFF Pharmaceuticals, Inc., Fort Worth, TX; Spring Discovery, Inc., San Carlos, CA; Cue Health, Inc., San Diego, CA; and Deimos Biosciences, San Francisco, CA have withdrawn as parties to this venture.

No other changes have been made in either the membership or planned activity of the group research project. Membership in this group research project remains open, and RRPV intends to file additional written notifications disclosing all changes in membership.

On January 5, 2024, RRPV filed its original notification pursuant to section 6(a) of the Act. The Department of Justice published a notice in the Federal Register pursuant to section 6(b) of the Act on April 16, 2024 (89 FR 26928).

The last notification was filed with the Department on January 16, 2025. The Department of Justice published a notice in the Federal Register pursuant to section 6(b) of the Act on February 28, 2025 (90 FR 10949).

Suzanne Morris,
Deputy Director Civil Enforcement Operations, Antitrust Division.

[FR Doc. 2025-10809 Filed 6-12-25; 8:45 am]

BILLING CODE P